DEPARTMENT OF ENERGY

Federal Energy Regulatory Commission

[Docket No. CP19-20-000]

Notice of Application To Amend Section 3 Authorizations: Golden Pass Products LLC and Golden Pass LNG Terminal LLC

Take notice that on November 16, 2018, Golden Pass LNG Terminal LLC (Golden Pass LNG) and Golden Pass Products, LLC (GP Products), Three Allen Center, 333 Clay Street, Houston, Texas 77002, filed in Docket No.CP19-20-000 an application pursuant to section 3 of the Natural Gas Act (NGA) and Part 153 of the Commission's regulations for authority to transfer GP Product's existing authorization under NGA Section 3 to site, construct and operate liquefied natural Gas (LNG) export facilities ¹ to Golden Pass LNG, which currently owns and operates LNG import facilities ² that will be contiguous to and interconnected with the LNG export facilities.

¹ Golden Pass Products LLC and Golden Pass Pipeline LLC, 157 FERC ¶ 61,222 (2016).

² Golden Pass LNG Terminal LP and Golden Pass Pipeline LP, 112 FERC ¶.61,041 (2005).

Questions regarding this filing may be directed to Blaine Yamagata, Vice President and General Counsel, Golden Pass LNG, Three Allen Center, Suite 802, 333 Clay Street, Houston, Texas 77002; or to Kevin M. Sweeney, Law Office of Kevin M. Sweeney, 1625 K Street NW, Washington, DC 20006, phone: (202) 609-7709.

This filing is available for review at the Commission's Washington, DC offices, or may be viewed on the Commission's website at http://www.ferc.gov using the “e-Library” link. Enter the docket number, excluding the last three digits, in the docket number field to access the document. For assistance, please contact FERC Online Support at FERCOnlineSupport@ferc.gov, or call toll-free at (866) 208-3676, or for TTY, contact (202) 502-8659.

There are two ways to become involved in the Commission's review of this Project. First, any person wishing to obtain legal status by becoming a party to the proceeding for this project should file with the Federal Energy Regulatory Commission, 888 First Street NE, Washington, DC 20426, a motion to intervene in accordance with the requirements of the Commission's Rules of Practice and Procedure, 18 CFR 385.214, 385.211 (2016), by the comment date below. A person obtaining party status will be placed on the service list maintained by the Secretary of the Commission, and will receive copies of all documents filed by the applicant and by all other parties. A party must submit filings made with the Commission by mail, hand delivery, or internet, in accordance with Rule 2001 of the Commission's Rules of Practice and Procedure, id. 385.2001. A copy must be served on every other party in the proceeding. Only parties to the proceeding can ask for court review of Commission orders in the proceeding.

However, a person does not have to intervene to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the internet in lieu of paper; see 18 CFR 385.2001(a)(1)(iii) and the instructions on the Commission's website under the “e-filing” link. The Commission strongly encourages electronic filings.

As of the February 27, 2018 date of the Commission's order in Docket No. CP16-4-001, the Commission will apply its revised practice concerning out-of-time motions to intervene in any new Natural Gas Act section 3 or section 7 proceeding. Persons desiring to become a party to a certificate proceeding are to intervene in a timely manner. If seeking to intervene out-of-time, the movant is required to “show good cause why the time limitation should be waived,” and should provide justification by reference to factors set forth in Rule 214(d)(1) of the Commission's Rules and Regulations.

If the Commission decides to set the application for a formal hearing before an Administrative Law Judge, the Commission will issue another notice describing that

Comment Date: 5:00 p.m. Eastern Time on December 10, 2018.

Dated: November 27, 2018.
Kimberly D. Bose,
Secretary.

[FR Doc. 2018-26206 Filed 11-30-18; 8:45 am]

BILLING CODE 6717-01-P